EXPORT-IMPORT BANK

Sunshine Act Meetings

Notice of Open Meeting of the Sub-Saharan Africa Advisory Committee of the Export-Import Bank of the United States (EXIM)

TIME AND DATE: Tuesday, November 19th, 2024 from 1:00 p.m.-2:30 p.m. ET.

PLACE:

Microsoft Teams: The meeting will be held virtually for committee and council members, EXIM's Board of Directors, support staff, and all other participants.

Registration and Public Comment:

Virtual Public Participation: The meeting will be open to public participation virtually and time will be allotted for questions or comments submitted online. Members of the public may also file written statements before or after the meeting to advisory@exim.gov.

Interested parties may register for the meeting at: https://events.teams.microsoft.com/event/420f09f2-2060-42b4-9f59-241e31610c39@b953013c-c791-4d32-996f-518390854527.

STATUS: Open to the public.

MATTERS TO BE CONSIDERED: Discussion of EXIM policies and programs designed to support the expansion of financing support for U.S. manufactured goods and services in Sub-Saharan Africa.

CONTACT PERSON FOR MORE INFORMATION: For further information, contact India Walker, Senior External Engagement Specialist, at 202-480-0062 or india.walker@exim.gov.

Authority: The Committee was established by the Bank as directed by Section 2(b)(9) of the Export Import Bank Act of 1945. This Advisory Committee is chartered in accordance with the Federal Advisory Committee Act (“FACA”), 5 U.S.C. App.

India A. Walker,
Senior External Engagement Specialist, Office of External Engagement.

[FR Doc. 2024-25870 Filed 11-5-24; 11:15 am]

BILLING CODE 6690-01-P